DEPARTMENT OF HEALTH AND HUMAN SERVICES

Centers for Medicare & Medicaid Services

[Document Identifier: CMS-10599]

Agency Information Collection Activities: Proposed Collection; Comment Request; Correction

ACTION: Notice; Correction.

SUMMARY: On Wednesday, February 10, 2016 (81 FR 7124), the Centers of Medicare & Medicaid Services (CMS) published a Notice document titled “Agency Information Collection Activities; Proposed Collection; Comment Request”. That notice invited public comments on four separate information collection requests. Through the publication of this correction document, we are notifying the public that we are no longer requesting or accepting public comments on the information collection request that published on Wednesday, February 10, 2016 (81 FR 7124), and is titled “Medicare Prior Authorization of Home Health Services Demonstration.” Form number: CMS-10599 (OMB control number: 0938—New). All public comments regarding CMS-10599 should be submitted via the instructions listed in the original notice. The original notice for CMS-10599 published on Friday, February 5, 2016 (81 FR 6275). The original 60-day comment period for the notice that published on February 5, 2016 (81 FR 6275) remains in effect and ends on April 5, 2016.

Dated: February 19, 2016.
William N. Parham, III,
Director, Paperwork Reduction Staff, Office of Strategic Operations and Regulatory Affairs.

[FR Doc. 2016-03922 Filed 2-24-16; 8:45 am]

BILLING CODE 4120-01-P